DEPARTMENT OF ENERGY

Federal Energy Regulatory Commission

Combined Notice of Filings #2

Take notice that the Commission received the following electric rate filings:

Docket Numbers: ER12-2178-001; ER12-2178-004; ER12-2178-005; ER12-2178-006; ER10-2172-012; ER10-2172-014; ER10-2172-016; ER10-2172-017; ER12-2311-003; ER12-2311-004; ER12-2311-005; ER12-2311-006; ER11-2016-007; ER11-2016-010; ER11-2016-011; ER11-2016-012; ER10-2184-012; ER10-2184-015; ER10-2184-017; ER10-2184-016; ER10-2183-009; ER10-2183-012; ER10-2183-013; ER10-2183-014; ER10-1048-009; ER10-1048-012; ER10-1048-013; ER10-1048-014; ER10-2176-013; ER10-2176-016; ER10-2176-017; ER10-2176-018; ER10-2192-012; ER10-2192-015; ER10-2192-016; ER10-2192-017; ER11-2056-006; ER11-2056-009; ER11-2056-010; ER11-2056-011; ER10-2178-012; ER10-2178-015; ER10-2179-016; ER10-2178-017; ER10-2174-012; ER10-2174-015; ER10-2174-016; ER10-2174-017; ER11-2014-009; ER11-2014-012; ER11-2014-013; ER11-2014-014; ER11-2013-009; ER11-2013-012; ER11-2013-013; ER11-2013-014; ER10-3308-011; ER10-3308-014; ER10-3308-015; ER10-3308-016; ER10-1017-008; ER10-1020-008; ER10-1020-011; ER10-1020-012; ER10-1020-013; ER10-1145-008; ER10-1145-011; ER10-1145-012; ER10-1145-013; ER10-1144-007; ER10-1144-010; ER10-1144-011; ER10-1144-012; ER10-1078-008; ER10-1078-011; ER10-1078-012; ER10-1078-013; ER10-1079-008; ER10-1080-008; ER10-1080-011; ER10-1080-012; ER10-1080-013; ER11-2010-009; ER11-2010-012; ER11-2010-013; ER11-2010-014; ER10-1081-008; ER10-1081-011; ER10-1081-012; ER10-1081-013; ER10-2180-015; ER10-2180-016; ER10-2180-017; ER11-2011-007; ER11-2011-011; ER11-2011-012; ER11-2011-013; ER12-2201-002; ER12-2201-004; ER12-2201-005; ER12-2201-006; ER12-2528-003; ER12-2528-004; ER12-2528-005; ER11-2009-008; ER11-2009-011; ER11-2009-012; ER11-2009-013; ER11-3989-007; ER11-3989-009; ER11-3989-010; ER11-3989-011; ER10-1143-008; ER10-1143-011; ER10-1143-012; ER10-1143-013; ER11-2780-006; ER11-2780-009; ER11-2780-010; ER11-2780-013; ER12-1829-004; ER12-1829-005; ER12-1829-006; ER11-2007-007; ER11-2007-010; ER11-2007-011; ER11-2007-012; ER12-1223-006; ER12-1223-009; ER12-1223-010; ER12-1223-011; ER11-2005-009; ER11-2005-012; ER11-2005-013; ER11-2005-014; ER10-2179-014; ER10-2179-016; ER10-2179-017; ER10-2179-018; ER10-2181-014; ER10-2181-016; ER10-2181-017; ER10-2181-018; ER10-2182-014; ER10-2182-016; ER10-2182-017; ER10-2182-018.

Applicants: Wind Capital Holdings, LLC, Wildcat Wind, LLC, Tuana Springs Energy, LLC, Shooting Star Wind Project, LLC, Safe Harbor Water Power Corporation, PECO Energy Company, Michigan Wind 1, LLC, Michigan Wind 2, LLC, Harvest II Wind Farm, LLC, Harvest WindFarm, LLC, Handsome Lake Energy, LLC, Exelon Wyman, LLC, Exelon Wind 4, LLC, Exelon West Medway, LLC, Exelon New Boston, LLC, Exelon Generation Company, LLC, Exelon Generation Company, LLC, Exelon Framingham, LLC, Exelon Energy Company, Criterion Power Partners, LLC, CR Clearing, LLC, Cow Branch Wind Power, L.L.C., Constellation Power Source Generation Inc., Constellation NewEnergy, Inc., Constellation Mystic Power, LLC, Constellation Energy Commodities Group Maine, LLC, Commonwealth Edison Company, CER Generation II, LLC, CER Generation, LLC, Cassia Gulch Wind Park, LLC, Beebe Renewable Energy, LLC, Baltimore Gas and Electric Company, AV Solar Ranch 1, LLC, R.E. Ginna Nuclear Power Plant, LLC, Baltimore Gas and Electric Company, High Mesa Energy, LLC, Tuana Springs Energy, LLC, Calvert Cliffs Nuclear Power Plant, LLC, Nine Mine Point Nuclear Station, LLC.

Description: Revised Appendix B to October 12, 2012, January 31, March 8 and April 26, 2013 Change in Status Filings of Exelon Entities.

Filed Date: 7/3/13.

Accession Number: 20130703-5188.

Comments Due: 5 p.m. e.t. 7/24/13.

Docket Numbers: ER13-1901-000.

Applicants: Midcontinent Independent System Operator, Inc.

Description: 07-08-2013 SA 2477 Corn Belt-MidAm GFA 477 to be effective 7/9/2013.

Filed Date: 7/8/13.

Accession Number: 20130708-5017.

Comments Due: 5 p.m. e.t. 7/29/13.

Docket Numbers: ER13-1902-000.

Applicants: Midcontinent Independent System Operator, Inc.

Description: 07-08-2013 SA 2527 ITC-Consumers GIA (J161) to be effective 7/9/2013.

Filed Date: 7/8/13.

Accession Number: 20130708-5018.

Comments Due: 5 p.m. e.t. 7/29/13.

Docket Numbers: ER13-1903-000.

Applicants: MET New York Trading LLC.

Description: Application for Market-Based Rate Authority to be effective 9/3/2013.

Filed Date: 7/8/13.

Accession Number: 20130708-5064.

Comments Due: 5 p.m. e.t. 7/29/13.

Docket Numbers: ER13-1904-000.

Applicants: MET West Trading LLC.

Description: Application for Market-Based Rate Authority to be effective 9/3/2013.

Filed Date: 7/8/13.

Accession Number: 20130708-5070.

Comments Due: 5 p.m. e.t. 7/29/13.

Docket Numbers: ER13-1905-000.

Applicants: New York Independent System Operator, Inc.

Description: New York Independent System Operator, Inc. submits NYISO Joint Amended Restated LGIA No. 1774 Among NYISO, NYPA, and Marble River to be effective 6/19/2013.

Filed Date: 7/8/13.

Accession Number: 20130708-5086.

Comments Due: 5 p.m. e.t. 7/29/13.

The filings are accessible in the Commission's eLibrary system by clicking on the links or querying the Docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 8, 2013.
Nathaniel J. Davis, Sr.,
Deputy Secretary.

[FR Doc. 2013-16834 Filed 7-12-13; 8:45 am]

BILLING CODE 6717-01-P